DEPARTMENT OF AGRICULTURE

Forest Service

Information Collection: Special Use Administration

AGENCY: Forest Service, USDA.

ACTION: Notice; request for comment.

SUMMARY: In accordance with the Paperwork Reduction Act of 1995, the Forest Service is seeking comments from all interested individuals and organizations on the extension with revision of a currently approved information collection, Special Use Administration.

DATES: Comments must be received in writing on or before July 28, 2020 to be assured of consideration. Comments received after that date will be considered to the extent practicable.

ADDRESSES: Comments concerning this notice should be addressed to Volunteers & Service Program Manager, USDA Forest Service, Attention: Lands, USDA Forest Service—Washington Office, 1400 Independence Avenue Southwest, Mailstop 1124, Washington, DC 20250-1124. Comments also may be submitted via facsimile to 703-605- 5117 or by email to: reply_lands_staff@usda.gov.

The public may inspect comments received at the USDA Forest Service—Washington Office during normal business hours. Visitors are encouraged to call ahead to facilitate entry to the building.

FOR FURTHER INFORMATION CONTACT: Mark Chandler, Realty Specialist, at 202-205-1117 or via email at mark.chandler@usda.gov.

Individuals who use telecommunication devices for the deaf (TDD) may call the Federal Relay Service (FRS) at 1-800-877-8339 between 8 a.m. and 8 p.m. Eastern Standard Time, Monday through Friday.

SUPPLEMENTARY INFORMATION:

Title: Special Use Administration.

OMB Number: 0596-0082.

Expiration Date of Approval: January 31, 2017.

Type of Request: Extension with revision.

Abstract: The information collection requirements are necessary for the Forest Service to issue and administer special use authorizations that allow the public to use and occupy National Forest System (NFS) lands under these authorities. The information collected is used by Forest Service officials (unless otherwise noted) to ensure that uses of NFS lands are authorized, in the public interest, and compatible with the Agency's mission; and/or record authorization of use granted by appropriate Forest Service officials.

In addition, the Department of the Interior (DOI) statutes for the Bureau of Land Management (BLM), Fish and Wildlife Service (FWS), National Park Service (NPS), and Bureau of Reclamation (BOR) along with the statute for the U.S. Army Corp of Engineers (USACE) authorize its collection of information and will utilize form SF-299 “Application for Transportation and Utility Systems and Facilities on Federal Lands.”

Several statutes authorize the Forest Service to issue and administer authorizations for use and occupancy of NFS lands and collect information from the public for those purposes. The laws authorizing the collection of this information include the Organic Administration Act of 1897 (16 U.S.C. 551); Title V of the Federal Land Policy and Management Act of 1976 (FLPMA, 43 U.S.C. 1761-1771); Act of March 4, 1915 (16 U.S.C. 497); Alaska Term Permit Act of March 30, 1948 (48 U.S.C. 341); Act of September 3, 1954 (68 Stat. 1146; 43 U.S.C. 931c, 931d); National Forest Ski Area Permit Act (16 U.S.C. 497b); section 28 of the Mineral Leasing Act (30 U.S.C. 185); National Forest Roads and Trails Act (FRTA, 16 U.S.C. 532-538); section 7 of the Granger-Thye Act (16 U.S.C. 480d); Act of May 26, 2000 (16 U.S.C. 460l-6d); Federal Lands Recreation Enhancement Act (16 U.S.C. 6801-6814); Archeological Resource Protection Act of October 31, 1979 (16 U.S.C. 1996); and the Rural Electrification Act of 1936, as amended.

Forest Service regulations implementing these authorities, found at 36 CFR part 251, subpart B, contain information collection requirements, including submission of applications, execution of forms, and imposition of terms and conditions that entail information collection requirements, such as the requirement to submit annual financial information, to prepare and update an operating plan; to prepare and update a maintenance plan, and to submit compliance reports and information updates.

The information helps the Forest Service identify the environmental and social impacts of special uses for purposes of compliance with the National Environmental Policy Act and program administration. In addition, the Forest Service uses the information to ascertain whether the land use fee(s) charged for special use authorizations are based on market value.

Information collection occurs via application forms, as well as terms and conditions in special use authorizations and operating plans. There are six categories of information collected:

(1) Information required from proponents and applicants to evaluate proposals and applications to use or occupy NFS lands,

(2) Information required from applicants to complete special use authorizations,

(3) Annual financial information required from holders to determine land use fees,

(4) Information required from holders to prepare and update operating plans,

(5) Information required from holders to prepare and update maintenance plans, and

(6) Information required from holders to complete compliance reports and informational updates.

The six categories cover all information collection requirements involved in administration of the Special Uses program, including application and reporting forms; authorization forms; supplemental special use authorization clauses in Forest Service Handbook 2709.11, chapter 50; and information collection requirements not associated with an approved standard form.

These six categories demonstrate the complexity of the special uses program and the importance of standard forms in administration of the program. Special use authorizations encompass a variety of activities ranging from individual private uses to large-scale commercial facilities and public services. Examples of authorized special uses include public and private road rights-of-way, apiaries, domestic water supply conveyance systems, telephone and electric service rights-of-way, oil and gas pipeline rights-of-way, communications facilities, hydroelectric power-generating facilities, ski areas, resorts, marinas, municipal sewage treatment plants, and public parks and playgrounds.

Category 1: The Application Process

1. IRS form W-9, Request for Taxpayer Identification Number and Certification, is used to certify permit holder federal tax classification as part of the permit authorization and administration process.

2. FS-2300-43, Special Use Application and Permit for Government-Owned Buildings, is the form used by the Forest Service to collect information and to issue permits for use of government-owned facilities on NFS lands.

3. FS-2700-3a, Holder-Initiated Revocation of Existing Authorization and Request for a Special Use Permit, is used to facilitate issuance of a new authorization when there is a change in ownership of authorized improvements or a change in control of the holder of a special use authorization.

4. FS-2700-3b, Special Use Application and Permit for Noncommercial Group Use, provides information used to evaluate requests to use NFS lands for noncommercial gatherings involving 75 or more people, such as a wedding or an activity involving the exercise of First Amendment rights, and to authorize such requests.

5. FS-2700-3c, Special Use Application and Permit for Recreation Events, is used to collect information needed to evaluate requests to use NFS lands for events involving an entry or participation fee, such as an endurance ride, and to authorize such requests.

6. FS-2700-3f, Special Use Application and Permit, Temporary Permit for Outfitting and Guiding, is the form used by the Forest Service to collect information and to issue temporary permits to use NFS lands for Outfitting and Guiding services.

7. FS-2700-10, Technical Data for Communications Uses, is the form used by the Forest Service to collect information and to evaluate the compatibility of communications equipment at a communications site to minimize frequency interference and other compatibility problems.

8. FS-2700-11, Agreement Concerning a Small Business Administration Loan for a Holder of a Special Use Permit, is the form used by the Forest Service to collect information and to enter into agreement with a holder, a lender, and the U.S. Small Business Administration (SBA) regarding a loan guaranteed by the SBA.

9. FS-2700-12, Agreement Concerning a Loan for a Holder of a Special Use Permit, is the form used by the Forest Service to collect information and to enter into an agreement with a holder and a lender regarding a loan not guaranteed by the SBA.

10. FS-2700-30, Application for Permit for Archaeological Investigations, is the form used by the Forest Service to collect information and to evaluate the financial capability and qualifications of an applicant to undertake archaeological investigations on NFS lands.

11. FS-2700-33, Additional Insured Endorsement for a Special Use Authorization, is the form used by the Forest Service to collect information and to name the United States as an additional insured in an insurance policy issued to the holder of a special use authorization.

12. FS-2700-34, Prospectus for Campground and Related Granger-Thye Concessions, is used to select the most qualified applicant to operate a concession campground in a competitive process.

13. FS-2800-22A, Application for Authorization for Paleontological Resources Research or Collection, ((re-numbered from and separated from FS-2700-36)), is the form used by the Forest Service to collect information required to evaluate an applicant's proposal for paleontological research or collection to ensure compliance with statutory and regulatory requirements established for such activities.

14. FS-2800-22B, Authorization to Conduct Paleontological Resources Research or Collection, ((re-numbered from and separated from FS-2700-36)), is the form used by the Forest Service to establish stipulations for the performance of authorized activities related to paleontological research or collection.

15. FS-2800-22C, Paleontological Investigation Report Form, ((re-numbered from and separated from FS-2700-36)), is the form used by the Forest Service to collect information necessary to evaluate a permit holder's compliance with requirements established under an authorization to conduct paleontological research or collection, and to collect information used in the monitoring of paleontological resources.

16. FS-2800-22D, Paleontological Specimen Data Form, ((re-numbered from and separated from FS-2700-36)), is the form used by the Forest Service to provide information regarding specimens collected under authorization, which remain Federal property, and which must be deposited in an approved repository institution.

17. FS-6500-24, Financial Statement, provides information used by the authorized Forest Service officer or financial analyst to evaluate the financial capability of an applicant to undertake the requested use and to comply with the terms and conditions of an authorization. This form is used primarily for requests to operate ski areas, resorts, and government-owned campgrounds on NFS lands.

18. 16. FS-6500-25, Request for Verification, is the form used by an authorized Forest Service officer or financial analyst to: (1) Obtain a release of information from a financial institution to verify the financial capability of an applicant to undertake the requested use, and (2) to comply with the terms and conditions of an authorization. This form is used primarily for requests to operate ski areas, resorts, and government-owned campgrounds on NFS lands.

19. Response to a Prospectus (no designated form). When the Forest Service offers a new business opportunity that requires a Special Use authorization, for which there is competitive interest, it is necessary to issue a prospectus. Information provided by applicants in response to a prospectus is used to select the most qualified applicant.

20. Stanislaus FS-2300-1A Tuolumne Wild and Scenic River Permit is the form used by the Forest Service to collect information and to issue temporary permits to use NFS lands for river permit.

21. Stanislaus FS-2300-1B Cherry Creek Self-Registration Permit is the form used by the Forest Service to collect information and to issue temporary permits to use NFS lands for river permit.

Category 2: Special Use Authorizations

1. FS-2700-4, Special Use Permit, is the form used by the Forest Service to collect information and to authorize a variety of uses on NFS lands not covered by another form.

2. FS-2700-4b, Forest Road Special Use Permit, is the form used by the Forest Service to collect information and to authorize, under FLPMA, the construction and use of an NFS road, typically to access private property within a national forest for commercial purposes, such as timber hauling or noncommercial purposes such as residential use.

3. FS-2700-4c, Private Road Special Use Permit, is the form used by the Forest Service to collect information and to authorize, under FLPMA, the construction and use of a road that is not part of the forest transportation system to access non-Federal land, a mining claim, a mineral leasing area, or other uses of NFS lands.

4. FS-2700-4d, Temporary Cost Share Agreement Road Special Use Permit, is the form used by the Forest Service to collect information and to authorize, under FLPMA, the construction, maintenance, and use of a temporary road on NFS lands covered by a cost share agreement to access private property within a national forest for commercial purposes, such as timber harvesting.

5. FS-2700-4h, Special Use Permit for Campground and Related Granger-Thye Concessions, is the form used by the Forest Service to collect information and to authorize the operation and maintenance of a government-owned recreation site on NFS lands.

6. FS-2700-4h—Appendix B, Annual Granger-Thye Fee Offset Agreement, is used by authorized Forest Service official and the holder to specify the government maintenance, reconditioning, renovation, and improvement used to offset the land use fee for a Campground and Related Granger-Thye Concessions Special Use Permit.

7. FS-2700-4h—Appendix F, Special Use Permit for Campground and Related Granger-Thye Concessions, describes the Forest Service's drinking water program and the requirements that apply to holders authorized to operate a federally owned drinking water system.

8. FS-2700-4h—Appendix G, Granger-Thye Fee Offset Claim Certification, is used by a holder to provide a record of said holder's direct and indirect costs attributable to a project enumerated in a Granger-Thye Fee Offset Agreement.

9. FS-2700-4i, Special Use Permit for Outfitting and Guiding, is the form used by the Forest Service to collect information and authorize the use and occupancy of NFS lands to provide outfitting and guiding services.

10. FS-2700-4j, Special Use Permit for a Federal Agency's Electric Transmission Facilities, is the form used by the Forest Service to collect information and authorize the use and occupancy of NFS lands by a Federal agency that owns and operates electric transmission lines and facilities.

11. FS-2700-4—Shawnee, Special Use Permit for Equestrian Outfitting on the Shawnee National Forest, is required as part of a litigation settlement for the Shawnee National Forest.

12. FS-2700-5, Term Special Use Permit, is the form used by the Forest Service to collect information and authorize long-term use of NFS lands involving privately owned facilities.

13. FS-2700-5a, Term Special Use Permit for Recreation Residences, is the form used by the Forest Service to collect information and authorize a privately owned recreation residence on NFS lands.

14. Grand Island-FS-2700-5a, Term Special Use Permit for Recreation Residences, is the form used by the Forest Service to collect information and authorize a privately owned recreation residence on Grand Island Recreation Area.

15. FS-2700-5b, Ski Area Term Special Use Permit, is the form used by the Forest Service to collect information and authorize ski areas on NFS lands.

16. FS-2700-5c, Resort/Marina Term Special Use Permit, is the form used by the Forest Service to collect information and authorize a resort/marina on NFS lands.

17. FS-2700-5d, Resort Supplement for Outfitting and Guiding, provides information the Forest Service uses to authorize outfitting and guiding occurring at a resort/marina on NFS lands

18. FS-2700-9a, Agricultural Irrigation and Livestock Watering System Easement, is used by the Forest Service to collect information and grant an easement for an agricultural irrigation or a livestock watering system on NFS lands.

19. FS-2700-9b, Cost Share Easement, is used by the Forest Service to collect information and authorize, under FRTA, the acquisition, construction, or reconstruction and the maintenance and use of an NFS road that is subject to a cost share agreement. The parties to the cost share agreement grant each other easements within the geographic area covered by the agreement. A cost share easement is for a NFS road and is subject to the cost sharing provisions of the agreement.

20. FS-2700-9c, Non-Cost Share Easement, is used by the Forest Service to collect information and authorize, under FRTA, the construction, reconstruction, maintenance, and use of private roads under a cost share agreement. The parties to the cost share agreement grant each other easements within the geographic area covered by the agreement. A non-cost share easement is for a private road (rather than a NFS road) and is not subject to the cost sharing provisions of the agreement.

21. FS-2700-9d, Public Road Easement, is used by the Forest Service to collect information and grant easements, under FRTA, to public road authorities, such as States or counties, to construct and maintain public roads that are not part of the Federal Aid Highway System.

22. FS-2700-9e, Forest Road Easement, is issued under the National Forest Roads and Trails Act. This form is used by the Forest Service to collect information and to grant an easement, under FRTA, to a party to a cost share agreement, or to another non-Federal landowner who is cooperating in the acquisition, construction, or maintenance of a NFS road. The easement is for acquisition, construction or reconstruction, maintenance, and use of a NFS road that is outside the boundaries of a cost share agreement. At the time the easement is granted, the grantor and the grantee share the costs of acquisition, construction, and reconstruction. After the easement is granted, the grantor and the grantee share only the cost of maintenance.

23. FS-2700-9f, Private Road Easement, issued under the National Forest Roads and Trails Act; the Forest Service uses this form to collect information and grant an easement, under FRTA, to a party to a cost share agreement, or to another non-Federal landowner who is cooperating in the acquisition, construction, or maintenance of a NFS road. The easement is for construction or reconstruction, maintenance, and use of a private road that is outside the boundaries of a cost share agreement. Since the easement is for a private rather than a NFS road, the cost of constructing, reconstructing, and maintaining the road are borne by the grantee.

24. FS-2700-9g, Forest Road Easement, issued under the Federal Land Policy and Management Act, is used by Forest Service to collect information and grant an easement, under FLPMA, for construction, reconstruction, maintenance, and use of an NFS road, when the grantee is not a party to a cost share agreement for the acquisition, construction, and maintenance of an NFS road, or when the grantee does not meet the requirements for issuance of a forest road easement under FRTA.

25. FS-2700-9h, Private Road Easement, issued under the Federal Land Policy and Management Act, is used by the Forest Service to collect information and grant an easement, under FLPMA, for construction, reconstruction, maintenance, and use of a private road, when the grantee is not a party to a cost share agreement for the acquisition, construction, and maintenance of NFS roads, or when the grantee does not meet the requirements for issuance of a private road easement under FRTA.

26. FS-2700-10b, Communications Site Lease, is the form used by the Forest Service to collect information and to authorize a communications use within a designated communications site on NFS lands.

27. FS-2700-10c (re-numbered from 2700-39), Communications use Permit for Federal Agencies, is the form used by the Forest Service to collect information and to authorize a communications use within a designated communications site on NFS lands is to be used ONLY for Federal Agencies (other than the Forest Service) who have jurisdiction over the facility.

28. FS-2700-23, Amendment for Special Use Authorization, is used by the Forest to collect information and amend an existing special use authorization.

29. FS-2700-25, Temporary Special Use Permit, is used by the Forest Service to authorize uses of 1 year or less on NFS lands.

30. FS-2700-26, Major Category Cost Recovery Agreement, is used to effectuate cost recovery for special use applications or authorizations involving over 50 hours to process or monitor.

31. FS-2700-26b, Cost Recovery Master Agreement, is used by Forest Service officials to effectuate cost recovery for special use applications or authorizations involving multiple phases of development or groups of applications or similar applications for a specified geographic area.

32. FS-2700-27, Notice to Alaska Native Corporations Regarding Prospectus for Visitor Services, is used by the Forest Service to collect information and provide notice to Alaska Native Corporations of the issuance of a prospectus to conduct visitor services in Conservation System Units in Alaska. Notification provides the Alaska Native Corporations a chance to request designation as a most directly affected Native Corporation for purposes of competing for the opportunity to conduct visitor services.

33. FS-2700-31, Electric Transmission Line Easement, the Forest Service uses this form to collect information and to grant a long-term easement, under FLPMA, for an electric transmission line to a non-federal organization.

34. FS-2700-32, Permit for Archaeological Investigations, the Forest Service uses this form to collect information and to grant a permit to a qualified applicant to conduct archeological investigations on or within NFS lands.

Category 3: Annual Financial Information

1. FS-2700-6b, Recreation Residence Self-Inspection Report, is the Forest Service uses this form to review and record any modifications made to a recreation residence.

2. FS-2700-7, Reconciliation of Sales for Fee Calculation, this form provides information used by the Forest Service to determine land use fees based on sales revenue.

3. FS-2700-8, Reconciliation of Gross Fixed Assets to Booked Amounts, the Forest Service uses the information provided on this form to determine land use fees based on the gross fixed assets of the holder.

4. FS-2700-10a, Telecommunications Facility Inventory, the Forest Service uses the information provided on this form to determine the rent for a communications facility based on the number of tenants in the facility.

5. FS-2700-19, Fee Calculation for Concession Permits, information collected via this form is used by the Forest to determine the land use fee for concession permits under the Graduated Rate Fee System.

6. FS-2700-19a, Fee Calculation for Ski Area Permits, this form collects information used by the Forest Service to determine the land use fee for ski area permits under the Ski Fee Act.

7. FS-2700-38, RUS Certification Form—Telephone Facility, this form collects information to determine eligibility of fee waiver by the Rural Utility Service.

8. Business Practices (no designated form). The holder provides information regarding various business practices, such as basic accounting or financial records, upon request by the authorized officer or as a term and condition of an authorization. In most circumstances, the form used is one customarily used for the type of business involved.

Category 4: Preparing and Updating Operating Plans (No Designated Form)

Special use authorizations may contain a clause requiring the holder to prepare and update an operating plan that governs day-to-day operations of the authorized use. This information is useful to the holder and the Forest Service, because it specifies procedures and policies for conducting the authorized use. Typically, operating plans contain daily operating guidelines, fire abatement and control procedures, monitoring guidelines, maintenance standards, safety and emergency plans, and inspection standards. Operating plans are usually necessary for complex operations, commercial uses, and uses conducted in environmentally sensitive areas.

Category 5: Preparing and Updating Maintenance Plans (No Designated Form)

A permit or easement issued under FLPMA or FRTA may require the holder or grantee to submit and update a road maintenance plan or information necessary for the preparation of a road maintenance plan. A road maintenance plan governs the responsibility of the holder or grantee to perform or pay for maintenance of an NFS road.

Category 6: Compliance Reports and Information Updates

1. FS-2700-1, Inspection form for Special Uses, is used to document onsite examination of an authorized activity or facility to assess conditions and inform a compliance review.

2. Compliance Reports and Information Updates (no designated form). Special use authorizations may contain a clause requiring the holder to provide the Forest Service with compliance reports, information reports, and other information required by Federal law or to manage NFS lands to ensure adequate protection of national forest resources and public health and safety. Examples of compliance and information updates include dam maintenance inspection reports and logs required by the Reclamation Safety of Dams Act of 1978; the Federal Dam Safety Inspection Act of 1979; and the Dam Safety Act of 1983; documentation that authorized facilities passed safety inspections; documentation showing that the United States is named as an additional insured in an insurance policy issued to a holder; notifications involving a change in ownership of authorized improvements or a change in control of the holder; and documentation of compliance with Title VI of the Civil Rights Act of 1964.

Forest Service

Estimated Annual Burden: 2.9 burden hours per response (this is an average burden per form; this estimated annual burden also includes data from the DOI and USACE.

Type of Respondents: Individuals, Businesses, Non-profit Organizations, and Non-Federal Governmental entities.

Estimated Annual Number of Respondents: 168,728 respondents (this is a 3-year user rate average as tracked by the Special Use Data System (SUDS); this estimated annual number of respondents also includes data from the DOI and USACE).

Estimated Annual Number of Responses per Respondent: 1.

Estimated Total Annual Burden on Respondents: 336,463.5 hours (this is an estimation based on a three-year usage rate as tracked by SUDS multiplied by Burden Hours per Form; this estimated annual burden on respondents also includes data from the DOI and USACE).

Department of the Interior—BLM, FWS, NPS and BOR

Estimated Annual Burden: 25 burden hours per response.

Type of Respondents: Individuals, Businesses, Non-profit Organizations, and State and Local and Federal Government.

Estimated Annual Number of Respondents: 5,254.

Estimated Annual Number of Responses per Respondent: 1.

Estimated Total Annual Burden on Respondents: 131,051 hours.

U.S. Army Corp of Engineers

Estimated Annual Burden: 25 burden hours per response.

Type of Respondents: Individuals, Businesses, Non-profit Organizations, and State and Local and Federal Government.

Estimated Annual Number of Respondents: 32.

Estimated Annual Number of Responses per Respondent: 1.

Estimated Total Annual Burden on Respondents: 800 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Greg Smith,
Director, Lands and Realty Management.

[FR Doc. 2020-11615 Filed 5-28-20; 8:45 am]

BILLING CODE 3411-15-P